DEPARTMENT OF TRANSPORTATION

Federal Aviation Administration

14 CFR Part 39

[Docket No. 2002-NM-306-AD]

RIN 2120-AA64

Airworthiness Directives; McDonnell Douglas Model DC-9-10, DC-9-20, DC-9-30, DC-9-40, and DC-9-50 Series Airplanes; and Model DC-9-81 (MD-81) and DC-9-82 (MD-82) Airplanes

AGENCY: Federal Aviation Administration, DOT.

ACTION: Notice of proposed rulemaking (NPRM).

SUMMARY: This document proposes the supersedure of an existing airworthiness directive (AD), applicable to certain McDonnell Douglas transport category airplanes, that currently requires an inspection for chafing and/or abrasion, repair if necessary, and modification of the power feeder cable installation. This action would require inspection for proper installation, damage, or abrasion of the power feeder cables and trough installations; proper installation of caterpillar grommets in the lightening holes; and repair if necessary. This action also would require modification of the power feeder cable installation and add airplanes to the applicability of the AD. The actions specified by the proposed AD are intended to prevent a possible loss of electrical bus power, which could result in a potential fire ignition source and consequent fire in the cabin. This action is intended to address the identified unsafe condition.

DATES: Comments must be received by November 3, 2003.

ADDRESSES: Submit comments in triplicate to the Federal Aviation Administration (FAA), Transport Airplane Directorate, ANM-114, Attention: Rules Docket No. 2002-NM-306-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-306-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-306-AD.” The postcard will be date stamped and returned to the commenter.

Availability of NPRMs

Any person may obtain a copy of this NPRM by submitting a request to the FAA, Transport Airplane Directorate, ANM-114, Attention: Rules Docket No. 2002-NM-306-AD, 1601 Lind Avenue, SW., Renton, Washington 98055-4056.

Discussion

On January 10, 1986, the FAA issued AD 85-25-06, amendment 39-5177 (50 FR 49833, December 5, 1985), applicable to certain McDonnell Douglas Model DC-9 and C-9 (military) series airplanes, to require inspection of the power feeder cable installation, repair if necessary, and modification of the power feeder cable installation between the electrical power center and the respective generators. That action was prompted by reports of chafing and/or abrasion of the power feeder cables and six instances of shorted 1 power feeder cables. The chafing and/or abrasion was attributed to power feeder cables riding against bulkhead feedthroughs, floor panel clipnuts, and lightening holes in transition areas below floor level. The requirements of that AD are intended to eliminate a potential fire ignition source from the generator power feeder cable installation.

Actions Since Issuance of Previous Rule

Since the issuance of that AD, the manufacturer has advised the FAA that additional airplanes have been identified that also may be subject to the identified unsafe condition.

Explanation of Relevant Service Information

The FAA has reviewed and approved McDonnell Douglas Alert Service Bulletin (ASB) DC9-24A078, Revision 04, dated May 25, 2000, which describes procedures for a general visual inspection for damage such as sharp object penetration or abrasion damage of the power feeder cables, a general visual inspection of the power feeder cables, troughs and associated hardware for secure and proper installation, and repair if necessary. That ASB also describes procedures for installing grommets on all lightening holes where the power feeder cables pass through, and performing a generator control relay test on any repaired power feeder cables. For certain airplanes, that ASB also describes modification of the power feeder cable installation (including installing lightening hole grommets, replacing clipnuts with clipnuts specified in the ASB, as applicable, and performing a generator circuit relay test). Additionally, that ASB adds airplanes to the effectivity of the ASB. Accomplishment of the actions specified in the ASB is intended to adequately address the identified unsafe condition.

Explanation of Requirements of Proposed Rule

Since an unsafe condition has been identified that is likely to exist or develop on other products of this same type design, the proposed AD would supersede AD 85-25-06 to require general visual inspections for proper installation, damage, or abrasion of the power feeder cables and trough installations; proper installation of caterpillar grommets in the lightening holes; and repair if necessary. For certain airplanes, this proposed AD would require modification, as described previously, of the power feeder cable installation. The actions would be required to be accomplished in accordance with the service bulletin described previously.

Explanation of Change to Applicability

The FAA has revised the applicability of this proposed AD to reference the appropriate models as listed in the current published Type Certification Data Sheet.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 1,050 airplanes of the affected design in the worldwide fleet. The FAA estimates that 475 airplanes of U.S. registry would be affected by this proposed AD.

The new actions that are proposed in this AD action would take approximately (depending on the applicable airplane group specified in the service bulletin) from 1 work hour per airplane to 25 work hours per airplane to accomplish, at an average labor rate of $65 per work hour. Certain airplane groups (1, 2, and 7) do not require parts. For certain other airplane groups (5 and 6), required parts would cost approximately $291 to $428 per airplane. Based on these figures, the cost impact of the proposed requirements of this AD on U.S. operators is estimated to be between $65 per airplane for certain airplane groups, and $2,053 per airplane for certain other airplane groups.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-5177 (50 FR 49833, December 5, 1985), and by adding a new airworthiness directive (AD), to read as follows:

McDonnell Douglas: Docket 2002-NM-306-AD. Supersedes AD 85-25-06, Amendment 39-5177.

Applicability: Model DC-9-11, DC-9-12, DC-9-13, DC-9-14, DC-9-15, and DC-9-15F airplanes; Model DC-9-21 airplanes; Model DC-9-31, DC-9-32, DC-9-32 (VC-9C), DC-9-32F, DC-9-32F (C-9A and C-9B), DC-9-33F, DC-9-34 and DC-9-34F airplanes; Model DC-9-41 airplanes; Model DC-9-51 airplanes; and Model DC-9-81 (MD-81) and DC-9-82 (MD-82) airplanes; as specified in McDonnell Douglas Alert Service Bulletin DC9-24A078, Revision 04, dated May 25, 2000; certificated in any category.

Compliance: Required as indicated, unless accomplished previously.

To prevent a possible loss of electrical bus power due to chafing and/or abrasion of the power feeder cable installation, which could result in a potential fire ignition source and consequent fire in the cabin; accomplish the following:

Inspection

(a) Within 2 years after the effective date of this AD, perform a general visual inspection for proper installation, damage (e.g., evidence of sharp object penetration), or abrasion of the power feeder cables and trough installations, and for proper installation of caterpillar grommets in the lightening holes; per the Work Instructions of McDonnell Douglas Alert Service Bulletin (ASB) DC9-24A078, Revision 04, dated May 25, 2000.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 2: It is not necessary to inspect power feeder cables that are contained in conduit.

(b) If any abrasion or damage is found on the power feeder cables and troughs or any improper installation of the caterpillar grommets in the lightening holes is detected during the inspections required by paragraph (a) of this AD, before further flight, repair per the Work Instructions of McDonnell Douglas ASB DC9-24A078, Revision 04, dated May 25, 2000.

(c) Within 2 years after the effective date of this AD, modify the power feeder cable installation (including installing lightening hole grommets, replacing clipnuts with clipnuts specified in McDonnell Douglas ASB DC9-24A078, Revision 04, dated May 25, 2000, as applicable, and performing a generator circuit relay test), per the Work Instructions of McDonnell Douglas ASB DC9-24A078, Revision 04, dated May 25, 2000.

Acceptable Methods of Compliance

(d) Accomplishment of the actions specified in McDonnell Douglas DC-9 Service Bulletin 24-78, dated April 9, 1985; Revision 1, dated December 9, 1985; Revision 2, dated March 20, 1986; or Revision 3, dated July 17, 1987; before the effective date of this AD, is acceptable as a method of compliance with the requirements of this AD.

Alternative Methods of Compliance

(e) In accordance with 14 CFR 39.19, the Manager, Los Angeles Aircraft Certification Office (ACO), FAA, is authorized to approve alternative methods of compliance for this AD.

Issued in Renton, Washington, on September 15, 2003.
Ali Bahrami,
Acting Manager, Transport Airplane Directorate, Aircraft Certification Service.

[FR Doc. 03-23938 Filed 9-18-03; 8:45 am]

BILLING CODE 4910-13-P